DEPARTMENT OF HOUSING AND URBAN DEVELOPMENT

[Docket No. FR-5100-FA-24]

Announcement of Funding Awards Fair Housing Initiatives Program Fiscal Year 2007

AGENCY: Office of the Assistant Secretary for Fair Housing and Equal Opportunity, the Department of Housing and Urban Development, HUD.

ACTION: Announcement of funding awards.

SUMMARY: In accordance with section 102(a)(4)(C) of the Department of Housing and Urban Development Reform Act of 1989, this announcement notifies the public of funding decisions made by the Department for funding under the SuperNotice of Funding Availability (SuperNOFA) for the Fair Housing Initiatives Program (FHIP) for Fiscal Year (FY) 2007. This announcement contains the names and addresses of those award recipients selected for funding based on the rating and ranking of all applications and the amount of the awards.

FOR FURTHER INFORMATION CONTACT: Myron Newry, Director, FHIP Support Division, Office of Programs, Room 5230, 451 Seventh Street, SW., Washington, DC 20410. Telephone number (202) 708-2215 (this is not a toll-free number). A telecommunications device (TTY) for hearing and speech impaired persons is available at 1-800-877-8339 (this is a toll-free number).

SUPPLEMENTARY INFORMATION: Title VIII of the Civil Rights Act of 1968, as amended, 42 U.S.C. 3601-19 (the Fair Housing Act) charges the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR part 125.

The Department announced under separate solicitations in the Federal Register on January 18, 2007 (72 FR 11, pp 2396-2420 [General Section]) and March 13, 2007 (72 FR 48, pp 11506-11523), the availability of approximately $18,100,000 out of a FY 2007 appropriation of $20,000,000 and any potential recapture, to be utilized for FHIP projects and activities with approximately $1,900,000 designated for continuation of contracts with activities for the sixth option year under the Accessibility First Project, formerly the Project for Training and Technical Assistance Guidance (PATTG), and other contracts. However, the Office of Management and Budget (Congress) issued a Recession Order and $200,000.00 was charged against the initial appropriation resulting in a reduced appropriation of $19,800,000. Accordingly, the amount available for contracts was reduced to $1,700,000. Funding availability for discretionary grants follows: the Private Enforcement Initiative (PEI/$14,000,000) and the Education and Outreach Initiative (EOI) ($4,100,000).

This Notice announces awards of approximately $18,100,000 to 88 organizations and $1,700,000.00 to three contractors.

The Department reviewed, evaluated and scored the applications received based on the criteria in the FY 2007 SuperNOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Dated: November 13, 2007.
Kim Kendrick,
Assistant Secretary for Fair Housing and Equal Opportunity.

Fair Housing Initiatives Program Awards FY 2007
Applicant name | Contact person | Region | Award amount
Education and Outreach Initiative—General
Champlain Valley Office of Economic Opportunity, P.O. Box 163, Burlington, VT 05402 | Robert Meehan, ph. 802-651-0551 | 01 | $100,000.00
HAP, Inc., 322 Main Street, Springfield, MA 01105 | Carol Walker, ph. 413-233-1668, fax 413-731-8723 | 01 | 81,365.00
Citizen Action of New Jersey, 744 Broad Street, Newark, NJ 07102 | Leila Amirhamzeh, ph. 973-643-8800, fax 973-643-8100 | 02 | 100,000.00
Housing Council in the Monroe County Area, Inc., 183 East Main Street, Rochester, NY 14604 | Alexander Castro, ph. 585-546-3700 Ext 3013, fax 585-546-5061 | 02 | 73,390.00
Delaware Community Reinvestment Action Council, Inc., 601 North Church Street, Wilmington, DE 19801 | Rashmi Rangan, ph. 302-654-5024, fax 302-654-5046 | 03 | 80,000.00
Housing Opportunities Made Equal of Virginia, Inc., 700 East Franklin Street, Suite 3-A, Richmond, VA 23219 | Lorae Ponder, ph. 804-354-0641, fax 804-354-0690 | 03 | 100,000.00
National Community Reinvestment Coalition, 727 15th St, NW., Washington, DC 20005 | David Berenbaum, ph. 202-628-8866 | 03 | 100,000.00
Northern West Virginia Center For Independent Living, 601-3 E. Brockway Ave., Morgantown, WV 26501 | Jan Derry, ph. 304-296-6091, fax 304-292-5217 | 03 | 99,976.00
Southwestern Pennsylvania Legal Services, Inc., 10 West Cherry Ave., Washington, PA 15301 | Robert Brenner, ph. 724-225-6170, fax 724-250-1076 | 03 | 100,000.00
Kentucky Commission on Human Rights, 332 W. Broadway, Suite 700, Louisville, KY 40202 | Cynthia Fox, ph. 502-595-4024 x18, fax 502-595-4801 | 04 | 99,800.00
Legal Services of North Florida, Inc., 2119 Delta Blvd., Tallahassee, FL 32303 | John Fenno, ph. 850-385-9007 Ex. 15, fax 850-385-5684 | 04 | 100,000.00
The Fair Housing Agency of Alabama, 574 Azalea Road, Suite 124, Mobile, AL 36609 | Enrique Lang, ph. 251-660-7733, fax 251-660-7734 | 04 | 99,905.00
The University of Southern Mississippi, 118 College Drive #5157, Hattiesburg, MS 39406 | Constance Wyldmon, ph. 601-266-4119, fax 601-266-4312 | 04 | 100,000.00
Waccamaw Regional Council of Governments, 1230 Highmarket St., Georgetown, SC 29440 | Amy Lowe, ph. 843-546-8502, fax 843-527-2302 | 04 | 74,951.00
ACORN Housing Corporation, 757 Raymond Ave., Saint Paul, MN 55114 | Alexa Milton, ph. 651-203-0008, fax 651-203-1046 | 05 | 100,000.00
Advocacy Center, 1010 Common Street, Suite 2600, New Orleans, LA 70112 | Lois Simpson, ph. 504-522-2337 ext 118, fax 504-522-5507 | 05 | 100,000.00
Fair Housing Center of Southwest Michigan, 410 E. Michigan, Kalamazoo, MI 49007 | Robert Ells ph. 269-276-9100, fax 269-276-9101 | 05 | 97,229.00
Housing Research & Advocacy Center, 3631 Perkins Ave., Cleveland, OH 44114 | Jeffrey Dillman, ph. 216-361-9240, fax 216-426-1290 | 05 | 100,000.00
Metropolitan Milwaukee Fair Housing Council, Inc., 600 East Mason Street, Milwaukee, WI 53202 | William Tisdale, ph. 414-278-1240, fax 414-278-8033 | 05 | 100,000.00
Oak Park Regional Housing Center, 1041 South Boulevard, Oak Park, IL 60302 | James Breymaier, ph. 708-848-7150, fax 708-848-7165 | 05 | 99,780.00
Arkansas Community Housing Corporation, 2101 Main Street, Little Rock, AR 72206-1527 | Dickson Bell, ph. 501-374-2114, fax 501-376-3952 | 06 | 99,948.00
Garland Fair Housing Office, 210 Carver Dr., Ste. 102A, Garland, TX 75040 | Jose Alvarado, ph. 972-205-3316, fax 972-205-3304 | 06 | 100,000.00
New Mexico ACORN Fair Housing, 411 Bellamah, NW., Albuquerque, NM 87102-1315 | Matthew Henderson, ph. 505-242-7411, fax 505-244-1090 | 06 | 99,757.00
Iowa Civil Rights Commission, Grimes State Office, Building, Des Moines, IA 50319-1004 | Dawn Peterson, ph. 515-281-8086, fax 515-242-5840 | 07 | 95,569.00
The Urban League of Metropolitan St. Louis, Inc., 3701 Grandel Square, St. Louis, MO 63108 | Victoria Reaves, ph. 314-388-9840, Ext. 115, fax 314-388-9845 | 07 | 100,000.00
American Institute for Social Justice, 125 W. 10th Ave., Denver, CO 80204 | Valerie Coffin, ph. 504-207-0088, fax 202-546-2483 | 08 | 99,887.00
City of Billings, 510 North Broadway, Billings, MT 59103 | Brenda Beckett, ph. 406-657-8286, fax 406-657-8327 | 08 | 99,923.00
Disability Law Center, 205 North 400 West, Salt Lake City, UT 84103 | Matt Knotts, ph. 801-363-1347, fax 801-363-1437 | 08 | 100,000.00
Greater Napa Fair Housing Center, 601 Cabot Way, Napa, CA 94559 | Stephen Cogswell, ph. 707-224-9720, fax 707-224-1566 | 09 | 99,990.00
SILVER STATE FAIR HOUSING COUNCIL, 855 E. Fourth Street, Suite E, Reno, NV 89512 | Katherine Copeland, ph. 775-324-0990, fax 775-324-7507 | 09 | 100,000.00
Southwest Fair Housing Council, 2030 E Broadway Blvd, Suite 101, Tucson, AZ 85719 | Richard Rhey, ph. 520-798-1568, fax 520-620-6796 | 09 | 98,745.00
Legal Aid Services of Oregon, 921 S.W. Washington St., Suite 570, Portland, OR 97205 | Thomas Matsuda, ph. 503-471-1159, fax 503-417-0147 | 10 | 99,785.00
Education and Outreach Initiative—National Media Campaign Component
Pacific News Service, 275 Ninth St., San Francisco, CA 94103 | Sandy Close, ph. 415-503-4170, fax 415-503-0970 | 09 | 1,000,000.00
Private Enforcement Initiative—General
Legal Assistance Corporation of Central Massachusetts, 405 Main Street, Worcester, MA 01608 | Jonathan Mannina, ph. 508-752-3718, fax 508-752-5918 | 01 | 230,000.00
National Community Reinvestment Coalition, 727 15th St., NW, Washington, DC 20005 | David Berenbaum, ph. 202-628-8866 | 03 | 199,848.00
The Fair Housing Partnership of Greater Pittsburgh, Inc., 2840 Liberty Ave., Suite 205, Pittsburgh, PA 15222 | Peter Harvey, ph. 412-391-2535 | 03 | 275,000.00
Housing Opportunities Project for Excellence, Inc., 18441 NW 2nd Avenue, Miami Gardens, FL 33169 | Keenya Robertson, ph. 305-651-4673, fax 305-493-0108 | 04 | 275,000.00
Memphis Area Legal Services, Inc., 109 North Main, Suite 201, Memphis, TN 38103-5021 | Jacqueline Cobbins, ph. 901-432-4663, fax 901-529-8706 | 04 | 274,973.00
Mississippi Center for Legal Services Corporation, 111 East Front Street, Hattiesburg, MS 39401 | Sam Buchanan, ph. 601-545-2950, fax 601-545-2935 | 04 | 275,000.00
Mobile Fair Housing Center, Inc., PO Box 161202, Mobile, AL 36616-2202 | Teresa Bettis, ph. 251-479-1532, fax 251-479-1488 | 04 | 70,326.94
Fair Housing Center of Metropolitan Detroit, Room 1312, Detroit, MI 48226-1860 | Clifford Schrupp, ph. 313-963-1274, fax 313-963-4817 | 05 | 133,280.00
Fair Housing Center of West Michigan, 20 Hall St., SE, Grand Rapids, MI 49507 | Nancy Haynes, ph. 616-451-2980, fax 616-451-2657 | 05 | 273,786.00
Interfaith Housing Center of the Northern Suburbs, 620 Lincoln Ave., Winnetka, IL 60093 | Gail Schechter, ph. 847-501-5760, fax 847-501-5722 | 05 | 275,000.00
Legal Services of Eastern Michigan, 436 S. Saginaw Street, Flint, MI 48502 | Teresa Trantham, ph. 810-234-2621, fax 810-234-9039 | 05 | 207,449.00
The Housing Advocates, Inc., 3214 Prospect Avenue, East, Cleveland, OH 44115-2614 | Edward Kramer, ph. 216-431-7400 ext 106, fax 216-431-6149 | 05 | 275,000.00
Greater New Orleans Fair Housing Action Center, 228 St. Charles Avenue, Suite 1035, New Orleans, LA 70130 | James Perry, ph. 504-596-2100, fax 504-596-2004 | 06 | 275,000.00
Metropolitan Fair Housing Council, 1500 NE 4th Street, Suite 204, Oklahoma City, OK 73117 | George Wesley, ph. 405-232-3247, fax 405-232-5119 | 06 | 274,800.00
San Antonio Fair Housing Council, Inc., 4203 Woodcock Drive, Suite 216, San Antonio, TX 78228 | Sandra Tamez, ph. 210-733-3247, fax 210-733-6670 | 06 | 275,000.00
Orange County Fair Housing Council, Inc., 201 S. Broadway, Santa Ana, CA 92701-5633 | David Levy, ph. 714-569-0823 ext. 204, fax 714-835-0281 | 09 | 162,700.00
Private Enforcement Initiative—Performance Based Component
Fair Housing Center of Greater Boston, 59 Temple Place, Boston, MA 02111 | David Harris, ph. 617-399-0492, fax 617-399-0492 | 01 | 274,166.67
Housing Discrimination Project, Inc., 57 Suffolk Street, Holyoke, MA 01040 | Jamie Williamson, ph. 413-539-9796 x108, fax 413-533-9978 | 01 | 275,000.00
Fair Housing Council of New York, Inc., 327 West Fayette Street, Syracuse, NY 13202 | Merrilee Witherell, ph. 315-471-0420, fax 315-471-0549 | 02 | 211,346.00
Fair Housing Council of Northern New Jersey, 131 Main Street, Suite 140, Hackensack, NJ 07601 | Lee Porter, ph. 201-489-3552, fax 201-489-8472 | 02 | 275,000.00
Long Island Housing Services, Inc., 3900 Veterans Memorial Highway, Bohemia, NY 11761 | Michelle Santantonio, ph. 631-467-5111, fax 631-467-5131 | 02 | 270,417.00
South Brooklyn Legal Services, 105 Court, Brooklyn, NY 11201 | Josh Zinner ph. 718-237-5567, fax 718-855-0733 | 02 | 183,333.00
Fair Housing Council of Montgomery County, 105 East Glenside Avenue, Glenside, PA 19038 | Elizabeth Albert, ph. 215-576-7711, fax 215-576-1509 | 03 | 270,000.00
Fair Housing Council of Suburban Philadelphia, Inc., 225 South Chester Street, Swarthmore, PA 19081 | James Berry, ph. 610-604-4411, fax 610-604-4424 | 03 | 275,000.00
Bay Area Legal Services, Inc., (3), 829 W. MLK Jr. Blvd., Suite 200, Tampa, FL 33603-3336 | Richard Woltmann, ph. 813-232-1222 ext.137, fax 813-232-1403 | 04 | 234,973.33
Central Alabama Fair Housing Center, 1817 West Second Street, Montgomery, AL 36106 | Faith Cooper, ph. 334-263-4663, fax 334-263-4664 | 04 | 274,000.00
Fair Housing Center of Northern Alabama, 1728 3rd Avenue, Birmingham, AL 35203 | Lila Hackett, ph. 205-324-0111, fax 205-320-0238 | 04 | 275,000.00
Fair Housing Continuum, Inc., 840 Cocoa Boulevard, Cocoa, FL 32922 | David Baade, ph. 321-633-4451, fax 321-633-5198 | 04 | 275,000.00
Jacksonville Area Legal Aid, Inc., 126 West Adam Street, Jacksonville, FL 32202 | Michael Figgins, ph. 904-356-8371, fax 904-356-8780 | 04 | 274,972.67
Lexington Fair Housing Council, 205 East Reynolds Road, Lexington, KY 40517 | Author Crosby, ph. 859-971-8067, fax 859-971-1652 | 04 | 205,258.00
West Tennessee Legal Services, Inc., 210 West Main Street, Jackson, TN 38302 | Carol Gish, ph. 731-426-1309, fax 731-423-2600 | 04 | 275,000.00
Access Living of Metropolitan Chicago, 115 West Chicago Avenue, Chicago, IL 60610 | Mimi Alschuler, ph. 312-640-2198, fax 312-640-2101 | 05 | 275,000.00
Chicago Lawyers Committee for Civil Rights Under Law, Inc., 100 North LaSalle Street, Chicago, IL 60602 | Gaylene Henry, ph. 312-630-9744, fax 312-630-1127 | 05 | 274,994.00
Fair Housing Opportunities Inc., dba Fair Housing Center, 432 North Superior, Toledo, OH 43604 | Michael Marsh, ph. 419-243-6163, fax 419-243-6163 | 05 | 275,000.00
HOPE Fair Housing Center, 2100 Manchester Road, Wheaton, IL 60187 | Bernard Kleina, ph. 630-690-6500, fax 630-690-6586 | 05 | 274,702.33
Housing Opportunities Made Equal of Greater Cincinnati, Inc., 2400 Reading Road, Ste. 404, Cincinnati, OH 45202 | Elizabeth Brown, ph. 513-721-4663, fax 513-721-1642 | 05 | 273,815.39
Housing Research & Advocacy Center, 3631 Perkins Ave., Cleveland, OH 44114 | Jeffrey Dillman, ph. 216-361-9240, fax 216-426-1290 | 05 | 275,000.00
John Marshall Law School, 315 South Plymouth Court, Chicago, IL 60604 | Michael Seng, ph. 312-987-2397, fax 312-427-9438 | 05 | 274,958.00
Legal Aid Society of Minneapolis, 430 First Avenue North, Suite 300, Minneapolis, MN 55401-1780 | Lisa Cohen, ph. 612-746-3770, fax 612-334-5755 | 05 | 275,000.00
Metropolitan Milwaukee Fair Housing Council, 600 East Mason Street, Milwaukee, WI 53202 | William Tisdale, ph. 414-278-1240, fax 414-278-8033 | 05 | 274,996.00
Miami Valley Fair Housing Center, Inc., 21-23 East Babbitt Street, Dayton, OH 45405 | Jim McCarthy, ph. 937-223-6035, fax 937-223-6279 | 05 | 275,000.00
South Suburban Housing Center, 18220 Harwood Avenue, Homewood, IL 60430 | John Petruszak, ph. 708-957-4674, fax 708-957-4761 | 05 | 262,500.00
Austin Tenants Council Inc., 1640 B E 2nd St. Suite 150, Austin, TX 78702 | Katherine Stark, ph. 512-474-7007 x113, fax 512-474-0197 | 06 | 274,707.00
Family Housing Advisory Services, Inc., 2410 Lake Street, Omaha, NE 68111 | Teresa Hunter, ph. 402-934-6657, fax 402-934-7928 | 07 | 275,000.00
Metropolitan Saint Louis Equal Housing Opportunity Council, 1027 S. Vandeventer, Saint Louis, MO 63110 | Willie Jordan, ph. 314-534-5800 Ext 21, fax 314-534-2551 | 07 | 224,379.00
Fair Housing of the Dakotas, 533 Airport Road, Suite C, Bismarck, ND 58504 | Amy Nelson, ph. 701-221-2530, fax 701-221-9597 | 08 | 220,545.67
Bay Area Legal Aid, 405 14th Street, Oakland, CA 94612 | Jaclin Pinero, ph. 510-250-5229, fax 510-663-4719 | 09 | 275,000.00
California Rural Legal Assistance, 631 Howard Street, San Francisco, CA 94105 | Ilene Jacobs, ph. 530-742-7235, fax 530-742-0854 | 09 | 275,000.00
Fair Housing of Marin, 615 B Street, San Rafael, CA 94901 | Nancy Kenyon, ph. 415-457-5025, fax 415-457-6382 | 09 | 275,000.00
Inland Mediation Board, 60 East 9th Street, Upland, CA 91786-6097 | Lynne Anderson, ph. 909-984-2254, x114, fax 909-460-0274 | 09 | 275,000.00
Project Sentinal Inc., 460 Sherman Avenue, Palo Alto, CA 94306 | Ann Marquart, ph. 650-321-6291, fax 650-321-4173 | 09 | 270,000.00
Silver State Fair Housing Council, 855 E. Fourth Street, Reno, NV 89512 | Katherine Copeland, ph. 775-324-0990, fax 775-324-7507 | 09 | 203,629.00
Southwest Fair Housing Council, 2030 Broadway Boulevard, Tucson, AZ 85719 | Richard Rhey, ph. 520-798-1568, fax 520-620-6796 | 09 | 270,144.00
Fair Housing Center of South Puget Sound, 1517 South Fawcett, Tacoma, WA 98402 | Lauren Walker, ph. 253-274-9523, fax 253-274-8220 | 10 | 275,000.00
Northwest Fair Housing Alliance, 35 W. Main, Suite 250, Spokane, WA 99201 | Marley Eichstaedt, ph. 509-325-2665 Ext. 0#, fax 509-325-2716 | 10 | 275,000.00

[FR Doc. E7-22611 Filed 11-19-07; 8:45 am]

BILLING CODE 4210-67-P